DEPARTMENT OF JUSTICE

Notice of Lodging of Consent Decree Under the Clean Air Act

Under 28 CFR 50.7, notice is hereby given that on October 11, 2005, a Consent Decree in United States et al. v. Exxon Mobil Corporation and ExxonMobil Oil Corporation, Civil Action No. O5-C-5809, was lodged with the United States District Court for the Northern District of Illinois.

In a complaint that was filed simultaneously with the Consent Decree, the United States, the State of Illinois, the State of Louisiana, and the State of Montana sought injunctive relief and penalties against Exxon Mobil Corporation and ExxonMobil Oil Corporation (“ExxonMobil”) pursuant to Sections 113(b) and 304(a) of the Clean Air Act, 42 U.S.C. 7413(b) and 7604(a), for alleged Clean Air Act violations and violations of the corollary provisions in state laws at ExxonMobil petroleum refineries in Baton Rouge, Louisiana; Baytown, Texas; Beaumont, Texas; Billings, Montana; Joliet, Illinois, and Torrance, California. The complaint also asserted claims for violation of certain other environmental laws at some of the refineries, including: (1) Claims under Section 3008 of the Resource Conservation and Recovery Act, 42 U.S.C. 6928, and Section 309 of the Clean Water Act, 33 U.S.C. 1319, at the Billings and Joliet Refineries; and (2) claims for violation of release reporting requirements under Section 103 of the Comprehensive Environmental Response, Compensation, and Liability Act, 42 U.S.C. § 9603, and Section 304 of the Emergency Planning and Community Right-to-Know Act, 42 U.S.C. 11004.

Under the settlement, ExxonMobil will implement innovative pollution control technologies to reduce emissions of nitrogen oxides, sulfur dioxide, and particulate matter from refinery process units. ExxonMobil also will adopt facility-wide enhanced benzene waste monitoring and fugitive emission control programs. In addition, ExxonMobil will pay a $7.7 million civil penalty for settlement of the claims in the complaint. Finally, ExxonMobil will undertake $6.7 million in federal and state environmentally-beneficial projects, including: (1) Retrofitting or replacing municipal bus fleets in communities near the Baytown, Beaumont, Billings, Joliet, and Torrance Refineries to reduce air emissions from those vehicles, at a cost of at least $1,300,000; (2) donating land containing unique prairie habitat and performing habitat restoration benefitting the Midewin Tallgrass Prairie near the Joliet Refinery, at a cost of at least $1,050,000; (3) providing emergency response equipment to the Will County Emergency Management Agency, which serves the area near the Joliet Refinery, at a cost of at least $100,000; (4) performing three different emission reduction projects at the Baytown, Billings, and Joliet Refineries, at a total cost of at least $2,550,000; and (5) providing $1,700,000 for acquisition and protection of coastal lands in the State of Louisiana.

The Department of Justice will receive comments relating to the Consent Decree for a period of thirty (30) days from the date of this publication. Comments should be addressed to the Assistant Attorney General, Environment and Natural Resources Division, P.O. Box 7611, U.S. Department of Justice, Washington, DC 20044-7611, and should refer to United States et al. v. Exxon Mobil Corporation and ExxonMobil Oil Corporation, D.J. Ref. No. 90-5-2-1-07030.

The Consent Decree may be examined at the Office of the U.S. Environmental Protection Agency, Region 5, 77 W. Jackson Boulevard, Chicago, Illinois, During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov, fax number (202) 514-0097, phone confirmation number (202) 514-1547. In requesting a copy from the Consent Decree Library, please enclose a check in the amount of $69.25 (25 cents per page reproduction cost) payable to the U.S. Treasury.

Robert D. Brook,
Assistant Section Chief, Environmental Enforcement Section, Environment and Natural Resources Division.

[FR Doc. 05-20935 Filed 10-18-05; 8:45 am]

BILLING CODE 4410-15-M